DEPARTMENT OF LABOR

Employment And Training Administration

[TA-W-54,212]

The Timken Company, Pulaski, TN; Notice of Termination of Investigation

Pursuant to Section 221 of the Trade Act of 1974, as amended, an investigation was initiated on February 9, 2004 in response to a petition filed by a company official on behalf of workers at The Timken Company, Pulaski, Tennessee.

The petitioner has requested that the petition be withdrawn. Consequently, further investigation would serve no purpose, and the investigation has been terminated.

Signed at Washington, DC, this 25th day of February, 2004.
Linda G. Poole,
Certifying Officer, Division of Trade Adjustment Assistance.

[FR Doc. E4-577 Filed 3-15-04; 8:45 am]

BILLING CODE 4510-13-P